DEPARTMENT OF COMMERCE

National Oceanic and Atmospheric Administration

Proposed Information Collection; Comment Request; Alaska Recreational Charter Vessel Guide and Owner Data Collection

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 21, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Amber Himes-Cornell, (206) 526-4221; or Amber.Himes@noaa.gov or Dan Lew, (530) 554-1842, or Dan.Lew@noaa.gov.

SUPPLEMENTARY INFORMATION:

I. Abstract

This request is for reinstatement, with changes of a previously approved information collection.

Numerous management measures have recently been proposed or implemented that affect recreational charter boat fishing for Pacific halibut off Alaska. On January 5, 2010, NMFS issued a final rule establishing a limited entry permit system for charter vessels in the guided halibut sport fishery in International Pacific Halibut Commission Areas 2C (Southeast Alaska) and 3A (Central Gulf of Alaska) (75FR554). This permit system is intended to address concerns about the growth of fishing capacity in this fishery sector, which accounts for a substantial portion of the overall recreational halibut catch in Alaska. On March 16, 2011, a size limit on Pacific halibut caught while charter boat fishing in Area 2C for the 2011 fishing season was established (76FR14300). In addition, a Halibut Catch Sharing Plan (76FR44156) was implemented in 2014 that altered the way Pacific halibut is allocated between the guided sport (i.e., the charter sector) and the commercial halibut fishery.

To assess the effect of regulatory restrictions (currently in place or potential) on charter operator and owner behavior and welfare, it is necessary to obtain a better general understanding of the Alaska recreational charter boat industry. Some information useful for this purpose is already collected from existing sources, such as charter vessel logbooks administered by the Alaska Department of Fish and Game (ADF&G). In addition, a voluntary survey under this OMB Control Number administered to collect economic information for three fishing seasons (2011-2013) from business owners in the charter fleet was administered between 2012 and 2014. It collected information on vessel and crew characteristics, services offered to clients, spatial and temporal aspects of their operations and fishing behavior, and costs and earnings information for the three fishing seasons prior to implementation of the Halibut Catch Sharing Plan. These data were collected directly from the industry since they are not available from other existing data sources. A description of the previously-fielded survey and a summary of the results are available in a NOAA Technical Memorandum that can be accessed at http://www.afsc.noaa.gov/Publications/AFSC-TM/NOAA-TM-AFSC-299.pdf.

To evaluate changes in the charter sector associated with the Halibut Catch Sharing Plan, the National Marine Fisheries Service's (NMFS) Alaska Fisheries Science Center proposes to continue the implementation of the survey of charter vessel owners to collect annual cost, earnings, and employment data that will supplement logbook data collected by ADF&G. The proposed data collection will provide another three years of basic economic information about the charter sector beyond the 2011 to 2013 data that was collected previously, including revenues produced from different products and services provided to clients, fixed and variable operating costs, and locations of purchases. These data will support improved analysis and of the effects of fisheries regulations on the charter fishing industry, information that is increasingly needed by the North Pacific Fishery Management Council and NMFS to more completely understand ongoing halibut allocation issues and other fishery management issues involving the charter industry. The survey will have minor changes, including, possibly, a small set of questions about how charter vessels have been impacted by a new management program)

II. Method of Collection

The method of data collection will be a survey of charter vessel owners implemented through a voluntary mail questionnaire.

III. Data

OMB Control Number: 0648-0647.

Form Number: None.

Type of Review: Regular submission (reinstatement, with changes, of a previously approved information collection).

Affected Public: Individuals or households; business or other for profit organizations.

Estimated Number of Respondents: 1,200.

Estimated Time per Response: 60 minutes.

Estimated Total Annual Burden Hours: 1,200.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 15, 2015.
Sarah Brabson,
NOAA PRA Clearance Officer.

[FR Doc. 2015-17768 Filed 7-20-15; 8:45 am]

BILLING CODE 3510-22-P